DEPARTMENT OF TRANSPORTATION

Pipeline and Hazardous Materials Safety Administration

[Docket No. PHMSA-2012-0024]

Pipeline Safety: Information Collection Activities, Revision to Gas Transmission and Gathering Pipeline Systems Annual Report, Gas Transmission and Gathering Pipeline Systems Incident Report, and Hazardous Liquid Pipeline Systems Accident Report

AGENCY: Pipeline and Hazardous Materials Safety Administration, DOT.

ACTION: Notice and request for comments.

SUMMARY: On April 13, 2012, (77 FR 22387) in accordance with the Paperwork Reduction Act of 1995, the Pipeline and Hazardous Materials Safety Administration (PHMSA) published a notice in the Federal Register of its intent to make several minor revisions to the “Accident Report—Hazardous Liquid Pipeline Systems” and the “Incident Report—Natural and Other Gas Transmission and Gathering Pipeline Systems.” In addition, PHMSA proposed a number of revisions to the “Annual Report for Gas Transmission and Gathering Systems.” PHMSA received 12 comments in response to that notice. PHMSA is publishing this notice to respond to the comments, provide the public with an additional 30 days to comment on the proposed revisions to the forms and the instructions, and announce that the revised Information Collections will be submitted to the Office of Management and Budget (OMB) for approval.

DATES: Comments on this notice must be received by October 22, 2012 to be assured of consideration.

FOR FURTHER INFORMATION CONTACT: Blaine Keener by telephone at 202-366-0970, by fax at 202-366-4566, by email at blaine.keener@dot.gov.

ADDRESSES: You may submit comments identified by the docket number PHMSA-2012-00024 by any of the following methods:

• Fax: 1-202-395-5806.

• Mail: Office of Information and Regulatory Affairs (OIRA), Records Management Center, Room 10102 NEOB, 725 17th Street NW., Washington, DC 20503, ATTN: Desk Officer for the U.S. Department of Transportation\PHMSA.

• Email: Office of Information and Regulatory Affairs, OMB, at the following email address: OIRA_Submission@omb.eop.gov.

Requests for a copy of the Information Collection should be directed to Angela Dow by telephone at 202-366-1246, by fax at 202-366-4566, by email at Angela.Dow1@dot.gov, or by mail at U.S. Department of Transportation, PHMSA, 1200 New Jersey Avenue SE., PHP-30, Washington, DC 20590-0001.

SUPPLEMENTARY INFORMATION: Section 1320.8(d), Title 5, Code of Federal Regulations requires PHMSA to provide interested members of the public and affected agencies an opportunity to comment on information collection and recordkeeping requests. This notice identifies two revised information collection requests that PHMSA will submit to OMB for approval. The information collections are titled: “Incident and Annual Reports for Gas Pipeline Operators” (2137-0522) and “Transportation of Hazardous Liquids by Pipeline: Recordkeeping and Accident Reporting” (2137-0047). The comments are summarized and addressed below as specified in the following outline:

I. Background

II. Summary of Topic Comments/Responses

A. Annual Report for Gas Transmission and Gathering Systems

B. Gas Transmission Pipeline and Gathering Systems Incident Report

C. Hazardous Liquid Pipeline Systems Accident Report

D. General Comments

III. Proposed Information Collection Revisions and Request for Comments

I. Background

PHMSA published a notice in the Federal Register on April 13, 2012, (77 FR 22387) titled “Pipeline Safety: Information Collection Activities, Revision to Gas Transmission and Gathering Pipeline Systems Annual Report, Gas Transmission and Gathering Pipeline Systems Incident Report, and Hazardous Liquid Pipeline Systems Accident Report.” The notice announced minor revisions to the hazardous liquid pipeline systems accident report and the gas transmission and gathering pipeline systems incident report to collect additional information relative to incidents involving girth welds. The notice also announced revisions to the annual report for gas transmission and gathering systems to address certain National Transportation Safety Board (NTSB) recommendations and the Pipeline Safety, Regulatory Certainty, and Job Creation Act of 2011.

II. Summary of Topic Comments/Responses

During the two month response period, PHMSA received 12 comments from the following stakeholders:

(1) Alliance Pipeline—Operator

(2) Energy Transfer—Operator

(3) National Grid—Operator

(4) Paiute—Operator

(5) SCANA Corporation—Operator

(6) Southwest Gas—Operator

(7) Jack Wilson—Public

(8) American Gas Association (AGA)—Trade Association

(9) American Petroleum Institute (API) and American Oil Pipelines Association (AOPL);—Trade Associations

(10) Interstate Natural Gas Association of America (INGAA)—Trade Association

(11) Northeast Gas Association (NGA)—Trade Association

(12) Texas Pipeline Association—Trade Association

The comments are summarized and addressed below by topic

A. Annual Report for Gas Transmission and Gathering Systems

PHMSA solicited comments on proposed revisions to the current version of the “Annual Report for Natural and Other Gas Transmission and Gathering Pipeline Systems” (PHMSA F 7100.2-1, revised 06-2011, Gas Transmission Annual Report). These proposed revisions were referenced in a Federal Register notice published on April 13, 2012, (77 FR 2387). This 30-day notice responds to the comments, which may be found at http://www.regulations.gov, at docket number PHMSA-2012-0024. The docket also contains the form and instructions as amended in response to the comments. In general, the comments made by INGAA were supported in writing by Alliance Pipeline and Energy Transfer and the comments made by AGA were supported in writing by National Grid, Northeast Gas Association, Paiute, and Southwest Gas.

A1: PHMSA proposed to remove Part A, section 3 which asks operators to list contact information under the category “INDIVIDUAL WHERE ADDITIONAL INFORMATION MAY BE OBTAINED” and reserve the section. AGA commented that they did not understand why this action was taken, as the information requested should be beneficial. Northeast Gas Association commented that the removed information should be added to Part N of the form.

A1. Response: PHMSA believes that the request for additional contact information is not necessary. As it stands, Part N of the report requests contact information for the person who prepared the report. In an effort to reduce the potential for duplicative information, PHMSA has removed and reserved Part A, section 3 and will contact the preparer of the report for further information as necessary.

A2: Part A, section 5 allows for operators to identify a single predominate “COMMODITY GROUP” (e.g., Natural Gas, Synthetic Gas, and Hydrogen Gas) for which the report applies. PHMSA proposed to add “Landfill Gas” as a “COMMODITY GROUP.” INGAA commented that they were opposed to the addition of “Landfill Gas” as a “COMMODITY GROUP.” INGAA's basis for this opposition is that landfill gas is indistinguishable from natural gas, unlike hydrogen and propane, which are transported in dedicated pipelines. INGAA stated that requiring the identification of landfill gas would create difficulties at interconnection points of the pipeline for gas recipients who have no means of distinguishing the receipt of landfill gas.

INGAA also cited some confusion regarding the instructions for filing reports for multiple commodities. INGAA interpreted the instructions for Part A, section 5 to mean that in the case of an operator having a 5,000-mile pipeline for natural gas and a 50-mile hydrogen pipeline, the operator would have to file a separate report for each pipeline. INGAA suggested that PHMSA clarify its instructions if this interpretation is accurate.

A2. Response: In regard to INGAA's concern about landfill gas being indistinguishable from natural gas, an operator would not be required to report information regarding landfill gas if the operator does not select landfill gas as the predominate commodity transported in the pipeline facility. The addition of “Landfill Gas” as a “COMMODITY GROUP” will only collect mileage for pipelines that predominately transport landfill gas.

In response to INGAA's comment regarding the instructions for filing reports for multiple commodities, PHMSA has revised the instructions to provide examples. As detailed in the previous paragraph, an operator with a pipeline facility that is used to transport multiple commodities (e.g., landfill gas and natural gas) should only file a report for the commodity that is predominately transported in the pipeline facility. If an operator has two pipeline facilities with different commodities (e.g., a 5,000-mile pipeline facility containing predominately natural gas and a 1,500-mile pipeline facility containing predominately hydrogen), the operator must file a separate report for both pipeline facilities.

A3: Part A, section 7 requires operators to identify “INTERstate” and “INTRAstate” pipeline facilities. Under the “INTERstate” portion, operators identify the states in which the pipeline exists. PHMSA revised the “INTERstate” portion to include “OCS portions.” INGAA commented that Outer Continental Shelf (OCS) portions should refer to the affected water body (e.g., Gulf of Mexico and Atlantic Coast) and not the OCS block, which would require significant effort.

A3. Response: PHMSA agrees with INGAA and has revised the form and instructions to identify the OCS portions available for selection when submitting annual reports as: OCS-Alaska, OCS-Atlantic, OCS-Gulf of Mexico, and OCS-Pacific.

A4: PHMSA proposed to remove Part A, section 8 titled: “DOES THIS REPORT REPRESENT A CHANGE FROM LAST YEAR'S FINAL REPORTED NUMBERS FOR ONE OR MORE OF THE FOLLOWING PARTs: PART B, D, E, H, I, J, K, or L?” AGA opposed this removal and suggested that Part A, section 8 be revised to allow operators the option of checking the box to say that the only change from last year's report was the information in the newly proposed Parts Q and R.

A4. Response: The intent of Part A, section 8 was to reduce the burden on operators who have little or no changes to the data that was reported in their previous annual report. PHMSA has found that Part A, section 8 posed a number of technical challenges to implement in regard to ensuring data quality and has removed this section. However, to reduce the burden on operators, PHMSA allows operators to pre-populate their report with the data from the previous year's annual report (excluding volume transported; integrity inspections; failures, leaks, and repairs; and preparer's information). Furthermore, 49 CFR 191.22 supersedes the last portion of Part A, section 8 by requiring the reporting of changes such as mergers, acquisitions, divestitures, and new construction.

A5: Part F collects information regarding integrity inspection and subsequent actions. These inspection methods include in-line inspections, pressure testing, and direct assessments, with an option to identify “other” methods. INGAA commented that “Direct Examination” should be added as a distinct method of inspection, as direct examination is a rigorous and recognized inspection technique which should not be aggregated with the “other” methods.

A5. Response: PHMSA is not certain how many alternative inspection techniques are currently used by operators. Therefore, PHMSA has revised Part F, section 5(a) to incorporate a text box that will allow for the identification of “other” inspection techniques to determine if additional categories should be added in the future.

A6: PHMSA proposed to revise the introductory text of Parts F and G to add the following disclaimer: “Part F “WITHIN AN HCA SEGMENT” data and Part G may be completed only if HCA Miles are greater than zero in Part L.” Paiute and Southwest Gas commented that the proposed language is confusing and needs further clarification.

A6. Response: PHMSA has revised the instructions to clarify the intent of the disclaimer.

A7: Part F is used to collect data on integrity inspections, including the identification of the various types of inspections (e.g., in-line inspections, inspections based on pressure testing and direct assessment) and a description of actions that were taken as a result of the inspection. PHMSA proposed to revise Part F, section 6, which is used to accumulate data from the various inspections identified in the other sections of Part F, to collect additional information on pipe replacement and abandonment in High Consequence Areas (HCAs). This additional information included the number of conditions eliminated by pipeline repairs or abandonment that are categorized as immediate, one-year, or monitored conditions. Paiute and Southwest Gas commented that this information appears to be repetitive and that the instructions should be revised to include “replacement” and “abandonment” as a reportable “repair” in the existing inspection methods and eliminate the proposed revision. NGA is opposed to the proposed revision and commented that the operator's priorities should be focused on replacing pipe and meeting certain criteria and not counting all defects removed. NGA further commented that this revision would result in a waste of resources, huge burdens on operators, and no substantive value. INGAA also commented that separate categories should not be added for conditions eliminated by pipe abandonment. AGA commented that PHMSA should add a category for other scheduled conditions to the proposed revision in Part F to align with the other sections in Part F. INGAA suggested that shorter pipe replacements (replacements made when directly examining pipe as repairs) be addressed as “repairs” under Part F, section 6(b) and (c). INGAA further commented that the instructions for the proposed “replacement” language be revised to only address long term replacements (class changes). In addition, AGA commented that the instructions should be revised to clarify that a “replacement” does not qualify as a repair.

A7. Response: PHMSA disagrees with the suggestion made by Paiute and Southwest Gas to include “replacement” and “abandonment” as a reportable “repair” in the existing inspection methods. PHMSA believes that the information regarding the number of actionable anomalies eliminated from the system by removing pipe from service is an important benefit of an integrity management program that should be quantified. PHMSA notes NGA and INGAA's concern by acknowledging that anomalies handled by replacement or abandonment may not be directly examined and therefore, would not be able to be categorized by immediate, one-year, and monitored conditions as proposed. Therefore, PHMSA has revised the proposed Part F, section 6(d) and (e), both in the form and instructions, to remove the categories and collect only actionable anomalies eliminated by pipe replacement or abandonment. As a result, the comment by AGA to add another category for other scheduled conditions is no longer applicable. PHMSA agrees with INGAA's comment pertaining to short pipe replacements that typically occur after directly examining anomalies and are limited to several joints of pipe. PHMSA has revised the instructions to specify that these anomalies should be reported in Part F, section 6 (b) and (c), which compiles the sum total of the anomalies and conditions that were repaired for the calendar year. In an effort to address INGAA and AGA's requests for clarification regarding the use of “replacement,” PHMSA has revised the instructions to clarify that the anomalies collected for “replacement” under Part F, section 6(d) only apply to a pipeline facility in an HCA that has been abandoned and its transportation functionality replaced by the operator with a new pipeline facility. PHMSA has further revised the instructions to specify that if the transportation functionality is not replaced by the operator, then the anomalies should be identified as “abandonment” under Part F, section 6(f).

A8: Part G addresses mileage of baseline assessments and reassessments completed in a calendar year for HCA segment miles. PHMSA did not propose any revisions to Part G. INGAA recommended that PHMSA eliminate the distinction between baseline assessments and reassessments since all baseline assessments should be completed by 2012, with the exception of new HCAs.

A8. Response: Baseline assessments may not have been completed for gas transmission pipelines placed in service any time after 2005. Therefore, PHMSA will retain the baseline assessment category.

A9: Part J allows for the identification of pipeline mileage installed by decade. PHMSA proposed to revise Part J to separate the column listed as “Pre 40 or Unknown” into two separate columns; one for “Pre 40” and one for “unknown.” AGA commented that the column listed as “Pre 40” should be revised to “Pre 1940” for consistency purposes.

A9. Response: PHMSA will make the suggested change.

A10: Part K collects mileage of transmission pipe by specified minimum yield strength (SMYS). PHMSA did not propose any revisions to Part K. Northeast Gas Association (NGA) commented that the second row in Part K should include all pipe greater than or equal to 20% SMYS up through pipe equal to 30% SMYS inclusively, and the third row should be changed to include pipe greater than 30% SMYS but less than or equal to 40% SMYS. NGA further commented that this revision would capture the correct delineation of pressures specified on page 22388 of the April 13, 2012, (77 FR 22387) Federal Register notice. This delineation (untested gas transmission pipelines in HCAs operating at a pressure greater than 30% SMYS) is based on the pressure range detailed in section 23 of the Pipeline Safety, Regulatory Certainty, and Job Creation Act of 2011. NGA also commented that Part K does not provide information on whether the pipe had a post construction pressure test and will probably require another box to separate the mileage by class and HCA as detailed in Part R.

A10. Response: PHMSA does not plan on using the information collected under Part K to address the issue regarding untested gas transmission pipelines in HCAs. PHMSA is planning on capturing data to address that issue under the proposed Part R. Therefore, the SMYS ranges in Part K will not require amendment.

A11: Part M requests specific information regarding incidents, leaks, and repairs. PHMSA did not propose any revisions to this Part. AGA suggested that the cause definitions listed in this Part match the definitions listed in the Gas Transmission Incident Report. Northeast Gas Association suggested that the cause definitions match the definitions listed in the gas distribution annual report, except for the threat of stress corrosion cracking.

A11. Response: At this time, PHMSA is focusing on the proposed revisions identified in the April 13, 2012 (77 FR 22387) Federal Register notice. This issue falls outside of the scope of those revisions. However, PHMSA will consider this suggestion during the next review of the form which is scheduled to take place in 2013.

A12: Part M requests specific information regarding incidents, leaks, and repairs. PHMSA did not propose any revisions to this Part. INGAA commented that the columns for “Incidents in HCA Segments” and “Failures in HCA Segments” are redundant and should be removed because they collect the same information which owners or operators already provide on the Incident Reports.

A12. Response: INGAA correctly notes that incidents in HCAs are required on both the Gas Transmission Annual Report and individually on incident reports. PHMSA has collected this data through two separate reporting requirements since 2004. As predicted by INGAA, these two data sets are inconsistent for most years. The largest discrepancy occurred in 2010 when Gas Transmission Annual Report data indicated five incidents and incident report data indicated nine incidents. Accordingly, PHMSA has removed the “Incidents in HCA's” column in Part M of the Gas Transmission Annual Report form. The definitions that serve as the basis for collecting “Failures in HCA Segments” data do not correlate with the definitions used to collect “Incidents in HCA Segments” data. Therefore, PHMSA will continue to collect “Failures in HCA Segments” data on the Gas Transmission Annual Report.

A13: PHMSA proposed the new Part Q to collect mileage and record information categorized by the methods used to determine the Maximum Allowable Operating Pressure (MAOP). Northeast Gas Association commented that PHMSA should provide the full text of the applicable methodology sections or a hyperlink to the sections. Commenters also suggested that the use of the term “segments” be restricted since it has no uniform measure.

A13. Response: The instructions include the specific regulation and a synopsis of the regulation contents. Operators can readily find the full text in the regulations. PHMSA will eliminate the use of the term “segments.”

A14: PHMSA proposed the new Part Q to collect mileage and record information by the MAOP determination method. SCANA Corporation commented that clarification is necessary because they are unable to determine whether or not reporting is required for every methodology identified regardless of whether that methodology was used to determine the MAOP.

A14. Response: PHMSA intends for operators to report mileage under the single code section heading used to establish the MAOP. In some scenarios, 49 CFR 192.619(a)(1) through (4) may all have been considered when establishing MAOP. In such cases, PHMSA expects for the mileage to be reported under the section heading for the final methodology that was used to determine the MAOP value. PHMSA has revised the instructions to include this clarification.

A15: AGA, NGA, Texas Pipeline Association, and SCANA Corporation suggested that PHMSA allow for reporting relative to the proposed Parts Q and R be extended, thereby, coming closer to the congressional mandate of July 3, 2013, (18 months from signing date of the Pipeline Safety, Regulatory Certainty, and Job Creation Act of 2011). AGA, National Grid, NGA, and Texas Pipeline Association also suggested that PHMSA revise the table to include a “miles yet to be verified” column to allow for the reporting of pipeline segments where operators have yet to verify mileage.

A15. Response: PHMSA does not agree with the commenters' suggestion to extend the calendar year 2012 reporting requirements for the newly proposed Parts Q and R in the Gas Transmission Annual Report. Section 23 (MAXIMUM ALLOWABLE PRESSURE) of the Pipeline Safety, Regulatory Certainty, and Job Creation Act of 2011 requires that each owner or operator report, not later than 18 months, on each pipeline segment for which they do not have sufficient records to validate the MAOP of the pipeline segment. PHMSA has determined that the most appropriate method to collect this information is by the next Gas Transmission Annual Report which has a due date of March 15, 2013. PHMSA is planning for owners or operators to submit the newly requested information in Parts Q and R in the Gas Transmission Annual Report by March 15, 2013, to ensure that owners or operators comply with the “not later than 18 months” provision in the Pipeline Safety, Regulatory Certainty, and Job Creation Act of 2011. PHMSA does not agree with the comments from AGA, National Grid, NGA, and Texas Pipeline Association to include a separate column for “miles yet to be verified.” PHMSA has determined that such mileage should be identified as mileage without records to avoid confusion and comply with the reporting requirements. Therefore, PHMSA has revised the instructions to specify that pipeline segments that have not been verified be reported under the appropriate “w/out Recds” column. Owners or operators that find verification records after filing their Gas Transmission Annual Report may file a supplemental report to update their submission. The Gas Transmission Annual Report instructions contain the procedure for filing a supplemental report.

A16: AGA, NGA, National Grid, Paiute, Southwest Gas, and Texas Pipeline Association suggested that the tables in Parts Q and R be revised to adhere to Section 23 of the Pipeline Safety, Regulatory Certainty, and Job Creation Act of 2011 and collect mileage in Class 1 and 2 locations in HCAs and all Class 3 and 4 locations. AGA also suggested that the total miles each of the eight class/HCA locations should be totaled for accuracy validation.

A16. Response: In the April 13, 2012 (77 FR 22387) Federal Register notice for this information collection revision, PHMSA expressed intent to collect Part Q data only for Class 1 and 2 HCAs and all Class 3 and 4 locations. All of the Class 1 and 2 not in HCA rows should have been blacked-out in the “w/out Recds” column. PHMSA has revised the report form and instructions to not collect the reporting of mileage without complete records in Class 1 and 2 locations which are not within HCAs.

A17: PHMSA proposed the new Part R to collect pipeline mileage that has not been subjected to a pressure test and pipeline mileage that is not able to accommodate the passage of an instrumented internal inspection device. AGA commented that PHMSA should collect pipeline mileage of lines that have been subjected to post-construction tests of at least 1.1, 1.2, and ≥ 1.25 times the MAOP, regardless of the testing medium. AGA suggested that this information would be helpful to comply with the Pipeline Safety, Regulatory Certainty, and Job Creation Act of 2011 and the address NTSB recommendation P-11-17. AGA, SCANA Corporation, and INGAA also suggested collection of information regarding pressure tests at or above 110% and less than 125% of MAOP, since the regulations currently allow it for certain class locations.

A17. Response: PHMSA agrees with the commenters and has expanded Part R to collect data about the mileage of pipe in three bands of pressure tests; miles tested to more than 1.25 times the MAOP, miles tested to less than 1.25 times the MAOP but greater than or equal to 1.1 times the MAOP, and miles with a pressure test less than 1.1 times the MAOP or no pressure test. Operators are required to report in each pressure test band the number of miles able to accommodate internal inspection and the number of miles not able to accommodate internal inspection.

A18: PHMSA proposed the new Part R to collect pipeline mileage that has not been subjected to a hydrostatic pressure test. Several commenters including NGA and Texas Pipeline Association recommended that the table be revised to not restrict reporting to hydrostatic pressure testing.

A18. Response: PHMSA agrees that the test medium is irrelevant and has amended the form and instructions accordingly.

A19: PHMSA proposed the new Part R to collect pipeline mileage that has not been subjected to a pressure test and pipeline mileage that is not able to accommodate the passage of an instrumented inline inspection device. Several commenters, including AGA and Texas Pipeline Association, suggested that PHMSA expand the rows and columns in Part R to collect information separately by the 30% SMYS criterion, the different pressure test percentages and the vintage of pipeline as pre- or post-1970 regulation.

A19. Response: Although section 23 of the Pipeline Safety, Regulatory Certainty, and Job Creation Act of 2011 refers to gas transmission pipelines operating over 30% SMYS, PHMSA does not consider the SMYS level and pipeline vintage to be relevant to whether a pipeline has been pressure tested or is able to be internally inspected. PHMSA does not find this information to be relevant since all pipelines placed in service after the effective date of Part 192 are required to be subjected to a post-construction pressure test and will be reported in either the “tested to more than 1.25 MAOP,” “less than 1.25 MAOP but greater than or equal to 1.1 MAOP,” or “tested to less than 1.1 MAOP or not subjected to a pressure test” bands specified in Part R.

A20: PHMSA proposed the new Part R to collect pipeline mileage that has not been subjected to a pressure test and pipeline mileage that is not able to accommodate the passage of an instrumented internal inspection device. Several commenters, including AGA, National Grid, Paiute, SCANA, Southwest Gas, and Northeast Gas Association suggested that PHMSA clarify the phrase “not able to accommodate the passage of instrumented internal inspection devices.” Most of the commenters specified that operators will have varying interpretations of this language that will result in poor data if clarification is not provided. Several definitions were proposed by the commenters. AGA suggested that a line that is able to accommodate the passage of an internal inspection device be defined as a “pipe of appropriate physical and operational characteristics to allow successful inspection via current commercially available in-line inspection tools within the specified tool requirements and tolerances.” Northeast Gas Association suggested that a line that is able to accommodate the passage of an internal inspection device be defined as a “pipe of appropriate physical and operational characteristics to allow successful inspection via currently available in-line inspection tools either meeting the requirements of Subpart O 192.921(1) in conjunction with ASME/B31.8S or acceptable to PHMSA via 180 day notification to them including tethered or un-tethered devices.”

A20. Response: PHMSA has amended the form and instructions for Part R in response to comments to clarify the phrase “not able to accommodate the passage of instrumented internal inspection devices.” As a result, PHMSA has revised Part R to collect “Miles Internal Inspection ABLE” and “Miles Internal Inspection NOT ABLE.” The instructions include the following definition for “Internal Inspection ABLE”—“A length of pipeline through which commercially available devices can travel, inspect the entire circumference and wall thickness of the pipe, and record or transmit inspection data in sufficient detail for further evaluation of anomalies.”

A21: AGA commented that a section for “Additional Information” should be added to report to allow for operators to include any additional information which would assist in clarifying or classifying the reported data. AGA suggested that this section could be become a new Part S and be incorporated in the same manner as Part H in the Gas Distribution Systems Annual Report (PHMSA F 7100.1-1).

A21. Response: At this time, PHMSA is focusing on the proposed revisions identified in the April 13, 2012, (77 FR 22387) Federal Register notice. Although the proposed revision from AGA may be indirectly related, PHMSA would like more time to evaluate this suggestion and will consider it during the next review of the form which is scheduled to take place in 2013.

A22: Energy Transfer commented that PHMSA's estimate of two hours of additional reporting burden should be increased by two or three orders of magnitude.

A22. Response: PHMSA's estimate of two hours is based on the amount of time it takes to report the requested information. Although PHMSA believes that two hours is appropriate for additional information requested in the proposed report, PHMSA acknowledges that it may take each operator varying amounts of time to report this information. In consideration of this point and the commenter's suggestion, PHMSA is revising the estimated amount of time to collect the proposed information at four hours.

A23: INGAA commented that the proposed reporting should be amended to enable the use of a Fitness-For-Service approach for pre-regulation pipe. INGAA specifies that this process focuses on pre-regulation pipe, information on pipelines that have been subjected to a pressure test other than 125% of MAOP, and pipelines that operate at or below 30% SMYS.

A23. Response: PHMSA acknowledges the potential value of a Fitness-For-Service approach to address the proposed reporting of pre-regulation pipe. However, such an approach requires further assessment and discussion with stakeholders prior to its actual implementation, and therefore would not be appropriate to apply at this time.

A24: INGAA commented that the instructions for Part H “MILES OF TRANSMISSION PIPE BY NOMINAL PIPE SIZE (NPS)” and Part I “MILES OF GATHERING PIPE BY NOMINAL PIPE SIZE (NPS)” should specify that NPS data be based on the most common nominal pipe sizes and reported as integers (e.g., 6.625 inches should be reported as NPS 6).

A24. Response: PHMSA agrees and has revised the instructions accordingly.

A25: INGAA suggested that the definitions, detailed in their comment, for the terms “Actionable Anomaly,” “Direct Examination,” “OCS Portion,” and “Repair” be incorporated into the instructions. INGAA commented the suggested definitions for these terms are commonly accepted industry definitions.

A25. Response: PHMSA has incorporated the definition of actionable anomaly and included some aspects of the repair definition suggested by INGAA. There is no need to define direct examination or OCS portion.

A26: Commenter Jack Wilson asked why hazardous liquid pipelines are not being subjected to the same or similar annual reporting requirements as gas transmission and gathering pipeline systems.

A26. Response: The major revisions (the addition of Parts Q and R) to the Gas Transmission Annual Report have been incorporated to collect information that will be used to address portions of the Pipeline Safety, Regulatory Certainty, and Job Creation Act of 2011 that require certain actions applicable to gas transmission pipelines. These actions include record verification and pressure testing for pipelines that have not been subjected to a pressure test greater than 1.25 times the MAOP. In 2013, PHMSA will solicit comments in the Federal Register on all aspects of the Annual Report for Hazardous Liquid Pipeline Systems (PHMSA F 7000-1.1) which is authorized under OMB Control Number 2137-0614 with an expiration date of January 31, 2014.

B. Gas Transmission Pipeline and Gathering Systems Incident Report

PHMSA proposed to revise the “Incident Report—Natural and Other Gas Transmission and Gathering Pipeline Systems” (PHMSA F 7100.2, Gas Transmission Incident Report) to make minor edits and to collect additional information relating to incidents involving girth welds. The form and instructions proposed by PHMSA in the April 13, 2012, (77 FR 22387) Federal Register notice and comments received in response to the notice may be found at www.regulations.gov at docket number PHMSA-2012-0024. The docket also contains the form and instructions as amended in response to the comments.

B1. PHMSA proposed revisions to Part C of the Gas Transmission Incident Report to collect more information regarding incidents involving girth welds. INGAA commented that this additional information should be collected for all pipe and joint weld types.

B1. Response: At this time, PHMSA is focusing on the proposed revisions identified in the April 13, 2012, (77 FR 22387) Federal Register notice. Expanding the data collection beyond girth welds would require significant additional resources. PHMSA will consider this suggestion during the next review of the form which is scheduled to take place in 2013.

B2: Part G of the Gas Transmission Incident Report asks for the apparent cause of the incident. Section G5 of Part G requests information relating to an apparent cause of material failure of the pipe or weld, including “Environmental Cracking-related.” INGAA commented that “Stress Corrosion Cracking” (SCC), which is currently a subcategory under “Environmental Cracking-related,” should be returned to Part G, section G1 (“Corrosion Failure”). INGAA noted that their review of the latest incident data revealed that no incident reports have identified SCC as the apparent cause in Part G, section G5. INGAA noted that operators have continued to identify SCC as the apparent cause in Part G, section G1.

B2. Response: PHMSA moved SCC from section G1 to section G5 in 2010. This change was made at the suggestion of industry to reflect the fact that SCC is not truly corrosion. The SCC failure mechanism is more appropriately reported under the material and weld failure category. PHMSA has contacted those operators that have reported SCC as a “Corrosion Failure” and asked them to submit supplemental reports identifying SCC as “Environmental Cracking-related” in Part G, section G5.

B3: INGAA commented that the Gas Transmission Incident Report used to require operators to identify the manner in which the MAOP was determined. INGAA suggested that this is a useful data element that should be added back to the Gas Transmission Incident Report.

B3. Response: At this time, PHMSA is focusing on the proposed revisions identified in the April 13, 2012, (77 FR 22387) Federal Register notice. This issue falls outside of the scope of those revisions. PHMSA will consider this suggestion during the next review of the form which is scheduled to take place in 2013.

B4: INGAA commented that definitions for the common industry terms “Explode,” “Rupture,” and “Shutdown” should be included within the Gas Transmission Incident Report or instructions.

B4. Response: PHMSA agrees and has included these definitions in the instructions.

C. Hazardous Liquid Pipeline Systems Accident Report

PHMSA proposed to revise the “Accident Report—Hazardous Liquid Pipeline Systems” (PHMSA F 7000-1, Hazardous Liquid Accident Report) to make minor edits and to collect additional information relating to accidents involving girth welds. The form and instructions proposed by PHMSA in the April 13, 2012, (77 FR 22387) Federal Register notice and comments received in response to the notice may be found at www.regulations.gov at docket number PHMSA-2012-0024. The docket also contains the form and instructions as amended in response to the comments.

C1: On page 15 of the current Hazardous Liquid Accident Report instructions, PHMSA provides guidance on reporting shutdowns. API and AOPL commented that the previous version of the instructions provided additional guidance regarding how and when shutdowns of pipeline facilities must be reported, and that this guidance should be reinstated to allow for uniform reporting amongst operators.

C1. Response: PHMSA agrees and has incorporated the revision as suggested.

C2: On page 1 of the current Hazardous Liquid Accident Report instructions, PHMSA provides guidance on reporting pipeline failures or releases involving secondary ignition. API and AOPL commented that this guidance is confusing and should be removed since operators must report any release when a fire not intentionally set by the operator is involved, irrespective of which party initiated the release or the amount of damage.

C2. Response: PHMSA agrees and has incorporated the revision as suggested.

C3: On page 13 of the current Hazardous Liquid Accident Report instructions, PHMSA provides an “Important Note” regarding Part A, Questions 9 and 10 to require the inclusion of commodity volumes consumed by fire or explosion in the estimated volumes reported. API and AOPL commented that this guidance is contrary to previous guidance and will result in data that does not correlate with previous data. API and AOPL further requested that PHMSA note this change to avoid misinterpretation or incorrect analysis of the data.

C3. Response: PHMSA has amended the instructions for Part A, Questions 9 and 10 to remove the “Important Note” and to specify that the volumes consumed by fire should only be reported as a dollar value under Part D, Question 8.

C4: Part A, Question 7 of the Hazardous Liquid Accident Report asks for the local time and date of the initial telephonic report of the accident to the National Response Center (NRC). The Hazardous Liquid Accident Report instructions specify that the time reported should reflect the time zone where the accident was physically located. API and AOPL commented that the NRC puts a time stamp on each report based on the Eastern Time Zone, and not the local time at the accident location, and that PHMSA should note this discrepancy in the Hazardous Liquid Accident Report instructions in order to reduce confusion.

C4. Response: PHMSA will add the note suggested by API to warn operators that the NRC report time stamp must be converted to local time. PHMSA will also make this change in the Gas Transmission Incident Report.

C5: API and AOPL commented that the “Supplemental Report” section on Page 8 of the Hazardous Liquid Accident Report instructions incorrectly cites 49 CFR 191.15(c) from the natural gas regulations and should be corrected to reference 49 CFR 195.54(b) from the hazardous liquid regulations.

C5. Response: PHMSA has corrected the regulation referenced in the instructions.

C6: Part G of the Hazardous Liquid Accident Report allows for the reporting of “Apparent Cause” and Part G, section G6 applies to “Equipment Failure.” PHMSA did not propose revisions to this Part. API and AOPL recommended that PHMSA revise Part G, section G6 to add “abnormal wear” as a sub-cause in an effort to reduce operator use of the option “other,” thereby increasing the accuracy and specificity of PHMSA's data. API and AOPL further recommended that the option “none” be added to Part G, section G6, and that the phrase “Complete the following if any Equipment Failure sub-cause is selected” be deleted. API and AOPL suggested that these proposed revisions will further substantiate PHMSA's data.

C6. Response: At this time, PHMSA is focusing on the proposed revisions identified in the April 13, 2012, (77 FR 22387) Federal Register notice. This issue falls outside of the scope of those revisions. PHMSA will consider this suggestion during the next review of the form which is scheduled to take place in 2013.

C7: Part D of the hazardous liquid accident report allows for the reporting of “ADDITIONAL CONSEQUENCE INFORMATION.” PHMSA proposed to revise Part D, Question 8(a), to delete the phrase “paid/reimbursed by the Operator.” API and AOPL commented that PHMSA should not implement the proposed deletion. API and AOPL suggested that the proposed deletion would create a misleading impression that private individuals must pay, or have paid, damages resulting from a release. They further specified that it is only in extremely rare instances that an entity other than the operator incurs any cost and, in those rare instances, the operator is unlikely to know the costs incurred by other parties, rendering them unable to provide an accurate response.

C7. Response: PHMSA removed “paid/reimbursed by the Operator” from the form in response to questions from operators about whether they should report total property damage or just the dollar amount paid for by the operator. PHMSA expects operators to report total property damage, regardless of whether the operator paid for the damage. In cases where the operator has not paid for the damage, the dollar amount must be estimated. PHMSA will remove “paid/reimbursed by the Operator” from the form.

C8: PHMSA proposed revisions in Part C of the report to collect more information for incidents involving girth welds. API and AOPL suggest that PHMSA restructure the form so that all the data will be collected in a data field within Part C, rather than in the narrative where it is unavailable for public examination and proper analysis.

C8. Response: The revision proposed by the commenters would require extensive modifications to the form and to the methods of data analysis. PHMSA will consider this suggestion during the next review of the form which is scheduled to take place in 2013.

C9: API and AOPL commented that PHMSA should ensure that all proposed changes are reflected in the instructions.

C9. Response: PHMSA has revised the instructions to reflect the proposed revisions.

C10: Part A of the hazardous liquid accident report allows for the reporting of “Key Report Information.” PHMSA did not propose any changes to this Part. API and AOPL suggested that Part A, Question 10 be revised from “Estimated volume of intentional and/or controlled release/blowdown” to “Estimated volume of intentional and/or controlled release/blowdown (HVL/CO2 releases only).” API and AOPL specified that adoption of the proposed modification would be consistent with the original objective of the question — to differentiate information on HVL/CO2 releases where product is vented or flared under the operator's control to facilitate repair following a release, as opposed to what was released unintentionally during the release event. API and AOPL further suggested that this revision be detailed in the instructions as well.

C10. Response: PHMSA agrees with the comment from API and AOPL and has revised the form and instructions as suggested.

D. General Comments

D1: AGA commented that PHMSA should involve industry more in the deliberation process for implementing changes to the forms.

D1. Response: In compliance with the requirements of the Paperwork Reduction Act, PHMSA involves industry by seeking comments and suggestions on proposed recordkeeping and reporting activities and will continue to do so.

III. Proposed Information Collection Revisions and Request for Comments

The following information is provided for each revised information collection: (1) Title of the information collection; (2) OMB control number; (3) Type of request; (4) Abstract of the information collection activity; (5) Description of affected public; (6) Estimate of total annual reporting and recordkeeping burden; and (7) Frequency of collection. PHMSA will request a three-year term of approval for each information collection activity. PHMSA is only focusing on the revisions detailed in this notice and will request revisions to the following information collection activities.

1. Title: Incident and Annual Reports for Gas Pipeline Operators.

OMB Control Number: 2137-0522.

Current Expiration Date: 1/31/2014.

Type of Request: Revision.

Abstract: PHMSA is looking to revise the Gas Transmission Annual Report (PHMSA F 7100.2-1) to collect additional information in response to recent NTSB recommendations and the Pipeline Safety, Regulatory Certainty, and Job Creation Act of 2011. In addition, PHMSA is revising the Gas Transmission Incident Report Form (PHMSA F 7100.2) to allow for the submission of additional information regarding the pipe in relation to girth weld failures.

Affected Public: Gas transmission/gathering pipeline operators.

Annual Reporting and Recordkeeping Burden:

Total Annual Responses: 21,864.

Total Annual Burden Hours: 83,144 (increase of 5,760).

Frequency of Collection: On occasion.

2. Title: Transportation of Hazardous Liquids by Pipeline: Recordkeeping and Accident Reporting.

OMB Control Number: 2137-0047.

Current Expiration Date: 12/31/2013.

Type of Request: Revision.

Abstract: PHMSA is looking to revise the Hazardous Liquid Accident Report Form (PHMSA F 7000-1) to allow for the submission of additional information regarding the pipe in relation to girth weld failures.

Affected Public: Hazardous liquid pipeline operators.

Annual Reporting and Recordkeeping Burden:

Total Annual Responses: 847.

Total Annual Burden Hours: 51,329.

Frequency of Collection: On occasion.

Comments Are Invited On

(a) The need for the proposed collection of information for the proper performance of the functions of the agency, including whether the information will have practical utility;

(b) The accuracy of the agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Issued in Washington, DC, on September 18, 2012.
Jeffrey D. Wiese,
Associate Administrator for Pipeline Safety.

[FR Doc. 2012-23335 Filed 9-20-12; 8:45 am]

BILLING CODE 4910-60-P